DEPARTMENT OF HOUSING AND URBAN DEVELOPMENT

[Docket No. FR-4837-D-33]

Delegation of Authority To Affix Department Seal and Authenticate Documents

AGENCY: Office of the Secretary, HUD.

ACTION: Delegation of authority.

SUMMARY: This delegation of authority revises and updates the designation of Department officials and staff designated to affix the Department's seal and authenticate copies of documents.

EFFECTIVE DATE: July 2, 2003.

FOR FURTHER INFORMATION CONTACT: Shari Weaver, Managing Attorney, Office of Litigation, Office of General Counsel, Room 10258, Department of Housing and Urban Development, 451 Seventh Street, SW., Washington, DC 20410-0500; telephone (202) 708-0300. (This is not a toll-free number.) For those needing assistance, this number may be accessed through TTY by calling the toll-free Federal Information Relay Service number at 1-800-877-8339.

Section A. Authority Delegated

Each of the following HUD employees is designated as an Attesting Officer and is authorized to cause the seal of the Department of Housing and Urban Development to be affixed to such documents as may require its application and to certify that a copy of any book, paper, microfilm, or other document is a true copy of that in the files of the Department:

1. Each Assistant Secretary;

2. President, Government National Mortgage Association;

3. Inspector General;

4. General Counsel;

5. Chief Financial Officer;

6. The Director of each Headquarters Office;

7. Each Deputy Assistant Secretary;

8. Each Regional Director;

9. Each Field Office Director;

10. Each Deputy General Counsel;

11. Each Associate General Counsel;

12. Each Assistant General Counsel;

13. Each Regional Counsel;

14. Each Chief Counsel; and

15. The Docket Clerks, in the Office of General Counsel.

Section B. Authority Revoked

This delegation revokes and supersedes the delegation of authority published on October 23, 1995 (60 FR 54380).

Authority: Sections 7(d) and (g), Department of Housing and Urban Development Act (42 U.S.C. 3535(d) and (g)).

Dated: July 2, 2003.
Mel Martinez,
Secretary.

[FR Doc. 03-17769 Filed 7-14-03; 8:45 am]

BILLING CODE 4210-32-P